GENERAL SERVICES ADMINISTRATION

41 CFR Parts 301-10, 301-11, 301-50, 301-52, 301-71, and 301-73

[FTR Amendment 2006-04; FTR Case 2005-305]

RIN 3090-AI19

Federal Travel Regulation; E-Gov Travel Service (ETS) and Use of Contract City-Pair Fares

AGENCY: Office of Governmentwide Policy, General Services Administration (GSA).

ACTION: Final rule.

SUMMARY: The General Services Administration (GSA) is amending the Federal Travel Regulation (FTR), by adding new requirements that address the use of other-than contract city pair airfares, the handling of receipts under the E-Gov Travel Service (ETS) environment, and new responsibilities for reviewing officials. This final rule also introduces and defines the term “online self-service booking tool” and provides for exceptions under certain circumstances to the required use of an agency’s current Travel Management Service (TMS) or ETS once the agency has fully deployed ETS. Finally, this final rule requires agencies to develop and submit upon request to the ETS Program Management Office, a plan for maximizing the agency’s adoption rate (i.e., achieving the highest possible rate of use of the agency’s online self-service booking tool) once the agency has fully deployed ETS. The explanation of changes is addressed in the supplementary information below. The FTR and any corresponding documents may be accessed at GSA’s Web site at http://www.gsa.gov/ftr.

DATES: Effective Date: September 22, 2006.

FOR FURTHER INFORMATION CONTACT: The Regulatory Secretariat (VIR), Room 4035, GS Building, Washington, DC, 20405, (202) 208-7312, for information pertaining to status or publication schedules. For clarification of content, contact Ms. Umeki Gray Thorne, Office of Governmentwide Policy, Travel Management Policy, at (202) 208-7636. Please cite FTR Amendment 2006-04; FTR case 2005-305.

SUPPLEMENTARY INFORMATION:

Background

This final rule amends the Federal Travel Regulation as follows:

• Sections 301-10.106 and 301-10.107 are redesignated as sections 301-10.105 and 301-10.106, respectively.

• Newly redesignated section 301-10.106 language is revised by removing exceptions to the use of a contract city-pair fare and incorporating them into new section 301-10.107. Note to section 301-10.106 indicates that employees of the Government of the District of Columbia, with the exception of the District of Columbia Courts, are not eligible to use contract city-pair fares even though these employees otherwise may be covered by the FTR.

• New section 301-10.107 “Are there any exceptions to the use of a contract city-pair fare,” incorporates exceptions to use of a contract city-pair fare (formerly contained in section 301-10.107, redesignated as section 301-10.106) for agency consideration in deciding whether to approve the use of other-than a contract city-pair fare. Note 1 to section 301-10.107 (previously Note 2 to this section) is revised to state that any group of 10 or more passengers traveling together on the same day, on the same flight, for the same mission requiring group integrity and identified as a group by the travel management system upon booking, may request contract city-pair service on an optional basis.

Note 2 to section 301-10.107 is added to clarify that contractors are not eligible to use contract city-pair fares in the performance of their contract.

Note 3 to section 301-10.107 is added to encourage agencies to optimize savings from the contract city pair program by comparing the cost savings achieved by use of capacity-controlled coach class contract city-pair fares (MCA, QCA, VCA, etc.) to the unrestricted coach class contract fare (YCA), when capacity-controlled fares are available and meet mission needs.

• Section 301-10.108 is amended by informing travelers that they are required to document on their travel authorization the approval and use of a non-contract city-pair air fare. This section also adds a note to clarify that air carrier preference is not a valid reason for approving the use of a non-contract airfare.

• Section 301-11.25 is revised to address the handling of receipts when an agency has fully deployed ETS.

• The section heading for section 301-50.3 is revised to include the term “TMS” and references to exceptions are included in the text.

• Sections 301-50.4 is revised to add TMS in its section heading and to incorporate when an exception to the use of an agency’s current TMS may be granted.

• Section 50.6 is redesignated as section 50.8.

• New section 301-50.6 is added to define the term, “online self-service booking tool.”

• New section 301-50.7 is added to encourage travelers to use the agency’s online self-service booking tool in the ETS environment. A note is added to this section to describe when the use of an online self-service booking tool may not be feasible to use.

• Section 301-52.3 is amended by replacing the words “migrate(s) to” in the first and second sentences with the words “fully deploy(s)”.

• Section 301-71.201, paragraph (e), is amended to specify that “receipts, statements, justifications, etc.” include scanned electronic images of such documents when they are available under the ETS environment.

• Section 301-73.101 is amended to require use of ETS with certain exceptions, and to require agencies to establish goals, a plan and procedures to maximize use of the online self-service booking tool for all travel arrangements once agencies have fully deployed ETS. This section also requires agencies to make its goals, plan, and procedures available to the ETS Program Management Office upon the request of the ETS Program Management Office.

• The introductory paragraph in section 302-73.102 is revised to add TMS and conditions under which an agency may authorize an exception to use of the agency’s current TMS.

B. Executive Order 12866

This is not a significant regulatory action and, therefore, was not subject to review under Section 6(b) of Executive Order 12866, Regulatory Planning and Review, dated September 30, 1993. This rule is not a major rule under 5 U.S.C. 804.

C. Regulatory Flexibility Act

This final rule is not required to be published in the Federal Register for notice and comment; therefore, the Regulatory Flexibility Act, 5 U.S.C. 601, et seq., does not apply.

D. Paperwork Reduction Act

The Paperwork Reduction Act does not apply because the changes to the FTR do not impose recordkeeping or information collection requirements, or the collection of information from offerors, contractors, or members of the public that require the approval of the Office of Management and Budget under 44 U.S.C. 3501, et seq.

E. Small Business Regulatory Enforcement Fairness Act

This final rule is also exempt from congressional review prescribed under 5 U.S.C. 801 since it relates solely to agency management and personnel.

List of Subjects in 41 CFR Parts 301-10, 301-11, 301-50, 301-52, 301-71, and 301-73

Government employees, Travel and transportation expenses.

Dated: March 9, 2006.
David L. Bibb,
Acting Administrator of General Services.

For the reasons set forth in the preamble, under 5 U.S.C. 5701-5709, GSA amends 41 CFR parts 301-10, 301-11, 301-50, 301-52, 301-71, and 301-73 as set forth below:

CHAPTER 301—TEMPORARY DUTY (TDY) TRAVEL ALLOWANCES

PART 301-10—TRANSPORTATION EXPENSES

1. The authority citation for 41 CFR part 301-10 continues to read as follows:

Authority: 5 U.S.C. 5707, 40 U.S.C. 121(c); 49 U.S.C. 40118, Office of Management and Budget Circular No. A-126, “Improving the Management and Use of Government Aircraft.” Revised May 22, 1992.

§§ 301-10.106 and 301-10.107 [Redesignated as §§ 301-10.105 and 301-10.106]

2. Redesignate §§ 301-10.106 and 301-10.107 as §§ 301-10.105 and 301-10.106, respectively.

3. Revise newly redesignated § 301-10.106 to read as follows:

§ 301-10.106 When must I use a contract city-pair fare?

If you are a civilian employee of an agency as defined in § 301-1.1 of this chapter, you must always use a contract city-pair fare for scheduled air passenger transportation service unless one of the limited exceptions in § 301-10.107 exist. An Internet listing of contract city-pair fares is available at http://www.gsa.gov/citypairs.

Note to § 301-10.106: Employees of the Government of the District of Columbia, with the exception of the District of Columbia Courts, are not eligible to use contract city-pair fares even though these employees otherwise may be covered by the FTR.

4. Add new § 301-10.107 to read as follows:

§ 301-10.107 Are there any exceptions to the use of a contract city-pair fare?

Yes, your agency may authorize use of a fare other-than a contract city-pair fare when—

(a) Space on a scheduled contract flight is not available in time to accomplish the purpose of your travel, or use of contract service would require you to incur unnecessary overnight lodging costs which would increase the total cost of the trip;

(b) The contractor’s flight schedule is inconsistent with explicit policies of your Federal department or agency with regard to scheduling travel during normal working hours;

(c) A non-contract carrier offers a lower fare to the general public that, if used, will result in a lower total trip cost to the Government (the combined costs of transportation, lodging, meals, and related expenses considered);

Note to paragraph (c): This exception does not apply if the contract carrier offers the same or lower fare and has seats available at that fare, or if the fare offered by the non-contract carrier is restricted to Government and military travelers performing official business and may be purchased only with a contractor-issued charge card, centrally billed account (e.g., YDG, MDG, QDG, VDG, and similar fares) or GTR where the two previous options are not available;

(d) Cost effective rail service is available and is consistent with mission requirements; or

(e) Smoking is permitted on the contract air carrier and the nonsmoking section of the contract aircraft is not acceptable to you.

Note 1 to § 301-10.107: Any group of 10 or more passengers traveling together on the same day, on the same flight, for the same mission, requiring group integrity and identified as a group by the travel management system upon booking is not a mandatory user of the Government's contract city-pair fares. For group travel, agencies are expected to obtain air passenger transportation service that is practical and cost effective to the Government.

Note 2 to § 301-10.107: Contractors are not authorized to use contract city-pair fares to perform travel under their contracts.

Note 3 to § 301-10.107: If the Government contract city-pair carrier offers a lower cost capacity-controlled coach class contract fare (MCA, QCA, VCA, etc.) in addition to the unrestricted coach class contract fares (YCA), the traveler should use the lower cost capacity-controlled fare when it is available and meet mission needs.

5. Revise § 301-10.108 to read as follows:

§ 301-10.108 What requirements must be met to use a non-contract fare?

(a) Before purchasing a non-contract fare you must meet one of the exception requirements listed in § 301-10.107 and show approval on your travel authorization to use a non-contract fare; and

(b) If the non-contract fare is non-refundable, restricted, or has specific eligibility requirements, you must know or reasonably anticipate, based on your planned trip, that you will use the ticket; and

(c) Your agency must determine that the proposed non-contract transportation is practical and cost effective for the Government.

Note to § 301-10.108: Carrier preference is not a valid reason for using a non-contract fare.

PART 301-11—PER DIEM EXPENSES

6. The authority citation for 41 CFR part 301-11 continues to read as follows:

Authority: 5 U.S.C. 5707.

7. Revise § 301-11.25 to read as follows:

§ 301-11.25 Must I provide receipts to substantiate my claimed travel expenses?

Yes. You must provide a lodging receipt and a receipt for every authorized expense over $75, or provide a reason acceptable to your agency explaining why you are unable to furnish the necessary receipt(s) (see § 301-52.4 of this chapter).

Note to 301-11.25: Hard copy receipts should be electronically scanned and submitted with your electronic travel claim when your agency has fully deployed ETS and notifies you that electronic scanning is available within your agency (see § 301-50.3 of this chapter). You may submit a hard copy receipt, in accordance with your agency’s policies, to support a claimed travel expense only when electronic imaging is not available within your agency.

PART 301-50—ARRANGING FOR TRAVEL SERVICES

8. The authority citation for 41 CFR part 301-50 continues to read as follows:

Authority: 5 U.S.C. 5707; 40 U.S.C. 121 (c).

9. Amend § 301-50.3 by revising the section heading and adding a sentence at the end of the section to read as follows:

§ 301-50.3 Must I use the ETS or TMS to arrange my travel?

* * * Your agency may grant an exception to required use of TMS/ETS under §§ 301-50.4, 301-73.102, or 301-73.104 of this chapter.

10. Revise § 301-50.4 to read as follows:

§ 301-50.4 May I be granted an exception to the required use of TMS or ETS once my agency has fully deployed ETS?

Yes, your agency head or his/her designee may grant an individual case exception to required use of your agency’s current TMS or to required use of ETS once your agency has fully deployed ETS, but only when your travel meets one of the following conditions:

(a) Such use would result in an unreasonable burden on mission accomplishment (e.g., emergency travel is involved and TMS/ETS is not accessible; you are performing invitational travel; or you have special needs or require disability accommodations under part 301-13 of this chapter).

(b) Such use would compromise a national security interest.

(c) Such use might endanger your life (e.g., you are traveling under the Federal witness protection program, or you are a threatened law enforcement/investigative officer traveling under part 301-31 of this chapter).

§ 301-50.6 [Redesignated as § 301-50.8]

11. Redesignate § 301-50.6 as § 301-50.8

12. Add new §§ 301-50.6 and 301-50.7 to read as follows:

§ 301-50.6 What is an “online self-service booking tool?”

An online self-service booking tool is an Internet based system that permits travelers to make their own reservations for transportation (e.g., air, rail, and car rental) and lodging. ETS and some agency TMS’s incorporate a self service booking tool.

§ 301-50.7 Should I use the online self-service booking tool once ETS is available within my agency?

Yes, you should use the online self-service booking tool offered by ETS or your agency’s TMS until ETS becomes available to you.

Note to section 301-50.7: Some extenuating circumstances for which you may not be able to use online self-service booking are (1) when you are attending a conference where the conference sponsor has negotiated with one or more lodging facilities to set aside a specific number of rooms for conference attendees and to ensure that a set aside room is available to you, you are required to book lodging directly with the lodging facility, (2) when your travel is to a remote location and it is not possible to book lodging accommodations through the TMS or ETS, or (3) when such travel arrangements are so complex and circumstance will not allow you to book your travel through an online self-service booking tool.

PART 301-52—CLAIMING REIMBURSEMENT

13. The authority citation to part 301-52 continues to read as follows:

Authority: 5 U.S.C. 5707; 40 U.S.C. 121(c); Sec. 2., Pub. L. 105-264, 112 Stat. 2350 (5 U.S.C. 5701 note).

§ 301-52.3 [Amended]

14. Amend § 301-52.3 in the first sentence by removing “migrates to” and adding “fully deploys” in its place, and the second sentence, by removing “migrate to” and adding “fully deploy” in its place.

PART 301-71—AGENCY TRAVEL ACCOUNTABILITY REQUIREMENTS

15. The authority citation for part 301-71 is revised to read as follows:

Authority: 5 U.S.C. 5707; 40 U.S.C. 121(c); Sec 2. Pub. L. 105-264, 112 Stat. 2350 (5 U.S.C. 5701 note).

16. Amend section § 301-71.201 by revising paragraph (e) to read as follows:

§ 301-71.201 What are the revising official’s responsibilities?

* * * * *

(e) The required receipts, statements, justifications, etc. are attached to the travel claim, or once the agency fully deploys ETS and implements electronic scanning, the electronic travel claim includes scanned electronic images of such documents.

PART 301-73—TRAVEL PROGRAMS

17. The authority citation for part 301-73 continues to read as follows:

Authority: 5 U.S.C. 5707; 40 U.S.C. 121(c).

18. Revise § 301-73.101 to read as follows:

§ 301-73.101 How must we prepare to implement ETS?

You must prepare to implement ETS as expeditiously as possible by—

(a) Developing a migration plan and schedule to deploy ETS across your agency as early as possible with full deployment required no later than September 30, 2006;

(b) Requiring employees to use your ETS unless you approve an exception under § 301-50.6, § 301-73.102 or § 301-73.104;

(c) Establishing goals, plans and procedures to maximize agency-wide traveler use of your online self-service booking tool once you have fully deployed ETS within your agency. These goals, plans, and procedures should be available for submission to the ETS PMO upon its request.

Note 1 to § 301-73.101: Your agency should work with the Office of Management and Budget (OMB) to allocate budget and personnel resources to support ETS migration and data exchange. Your agency is responsible for providing the funds required to establish interfaces between the ETS standard data output and applicable business systems (e.g., financial, human resources, etc.).

Note 2 to § 301-73.101: Best practices show that organizations are able to realize significant benefits once they achieve a 70 percent or greater self-booking rate.

19. Revise § 301-73.102 to read as follows:

§ 301-73.102 May we grant a traveler an exception from required use of TMS or ETS once we have fully deployed ETS within the agency?

(a) Yes, your agency head or his/her designee may grant an individual case by case exception to required use of your agency’s current TMS or to required use of ETS once it is fully deployed within the agency, but only when travel meets one of the following conditions:

(1) Such use would result in an unreasonable burden on mission accomplishment (e.g., emergency travel is involved and TMS/ETS is not accessible; the traveler is performing invitational travel; or the traveler has special needs or requires disability accommodations in accordance with part 301-13 of this chapter).

(2) Such use would compromise a national security interest.

(3) Such use might endanger the traveler’s life (e.g., the individual is traveling under the Federal witness protection program, or is a threatened law enforcement/investigative officer traveling under part 301-31 of this chapter).

(b) Any exception granted must be consistent with any contractual terms applicable to your current TMS or ETS, once it is fully deployed, and must not cause a breach of contract terms.

[FR Doc. E6-13917 Filed 8-22-06; 8:45 am]

BILLING CODE 6820-14-S